DEPARTMENT OF THE INTERIOR

Bureau of Indian Affairs

Notice of Availability of the Draft Environmental Impact Statement for the Proposed Moapa Paiute Energy Center and Associated Facilities, Moapa River Indian Reservation and Bureau of Land Management Lands, Clark County, NV

AGENCY: Bureau of Indian Affairs, Interior.

ACTION: Notice.

SUMMARY: This notice advises the public that the Bureau of Indian Affairs (BIA) and the Bureau of Land Management (BLM) intend to file a Draft Environmental Impact Statement (DEIS) for the Proposed Moapa Paiute Energy Center and Associated Facilities with the Environmental Protection Agency. The DEIS was prepared with the cooperation of the Moapa Band of Paiute Indians (Tribe) and Calpine Corporation (Calpine). The Tribe proposes to lease land and water on the Moapa River Indian Reservation (Reservation) to Calpine for the construction, operation, and maintenance of a nominal baseload 760-megawatt natural gas-fired combined cycle power plant. The proposed term of the lease is 25 years, with the possibility of renewal for an additional 20 years. The purposes of the proposed action are to provide much needed economic development for the Tribe and to provide an alternative power supply to meet the growing demand for power in southern Nevada and the southwestern United States. Details on the project location, proposed action, and areas of environmental concern addressed in the DEIS are provided in the SUPPLEMENTARY INFORMATION section. This notice also announces public meetings to solicit comments on the content of the DEIS.

DATES: Written comments on the DEIS must arrive by May 29, 2001. The public meetings will be held on Wednesday, April 18, 2001, from 6:00 p.m. to 8:00 p.m. and on Thursday, April 19, 2001, from 6:00 p.m. to 8:00 p.m.

ADDRESSES: You may mail or hand carry written comments to Amy L. Heuslein, Regional Environmental Protection Officer, Western Regional Office, Bureau of Indian Affairs, Environmental Quality Services, P.O. Box 10, Phoenix, Arizona 85001, or to Deborah Hamlin, Realty Specialist, Southern Paiute Field Station, P.O. Box 720, St. George, Utah 84771.

The April 18, 2001, public meeting will be in the Tribal Hall, Number 1 Lincoln Street, Moapa River Indian Reservation, Moapa, Nevada. The April 19, 2001, public meeting will be in the Guy Elementary School Multi-Purpose Room, 4028 La Madre Way, North Las Vegas, Nevada.

To obtain a hard copy or CD of the DEIS, contact any one of the following: (1) Amy L. Heuslein, Regional Environmental Protection Officer, Western Regional Office, Bureau of Indian Affairs, Environmental Quality Services, P.O. Box 10, Phoenix, Arizona 85001, Telephone 602-379-6750; (2) Deborah Hamlin, Realty Specialist, Southern Paiute Field Station, P.O. Box 720, St. George, Utah 84771, Telephone 435-674-9720 or Telefax 435-674-9714; (3) BLM, Las Vegas Field Office, 4765 Vegas Drive, Las Vegas, Nevada 89108, Telephone 702-647-5000; or (4) the Moapa Band of Paiutes, Tribal Hall, Number 1 Lincoln Street, Moapa River Indian Reservation, Moapa, Nevada, 89025, Telephone 702-865-2787 extension 202.

A hard copy of the DEIS will be available for review at the Clark County Library—Urban Branch, 1401 East Flamingo Road, Las Vegas, Nevada, Telephone 702-733-7810. The DEIS will also be available electronically on the BIA Internet web site at http://phxao.az.bia.gov/branches/environment/eis.htm, and on the BLM website at http://www.nv.blm.gov.

FOR FURTHER INFORMATION CONTACT: Amy L. Heuslein, 602-379-6750, or Deborah Hamlin, 435-674-9720.

SUPPLEMENTARY INFORMATION: The proposed project would utilize up to 300 acres of Indian and federal lands under the jurisdiction of BIA, BLM, and the Tribe. The proposed project would be located in Clark County, Nevada, approximately 45 miles northeast of the City of Las Vegas, 15 miles southwest of the City of Glendale, and approximately 3 miles northwest of the Interstate 15 and State Route 169 interchange (location of Moapa Tribal Enterprises). The facility would be located on approximately 65 acres of Reservation land within sections 14 and 15 of Township 16 South, Range 64 East (reference: Arrow Canyon Southeast U.S. Geological Survey Map 7.5-minute series). The transmission lines would be located on Indian and federal lands within sections 14, 15, 22, 27, 28, 32, and 33 of Township 16 South, Range 64 East; sections 9, 16, 17, 20, 29, 30, and 31 of Township 17 South, Range 64 East; section 6 of Township 18 South, Range 64 East; section 1 of Township 18 South, Range 63 East; and section 36 of Township 17, Range 63 East (reference: Arrow Canyon Southeast, Dry Lake, Dry Lake Northwest, and Apex U.S. Geological Survey Maps 7.5-minute series). The access road for the Well Site and plant site would be located on Indian and federal lands within sections 15, 22, 27, 28, and 33 of Township 16 South, Range 64 East; sections 10, 15, 16, 20, 21, 29, 31, and 32 of Township 17 South, Range 64 East; sections 6 and 7 of Township 18 South, Range 64 East; and sections 12 and 13 of Township 18 South, Range 63 East (reference: Arrow Canyon Southeast, Dry Lake, Dry Lake Northwest, and Apex U.S. Geological Survey Maps 7.5-minute series).

Because the BIA has trust responsibility over Indian lands, its approval of the lease between the Tribe and Calpine is a major federal action. The preparation of this DEIS under the National Environmental Policy Act (NEPA) of 1969, as amended, is therefore required in order to evaluate potential impacts and alternatives for project planning and environmental protection. The BLM, which also has trust responsibility, is a cooperating agency on the project because the transmission lines, the access road, and a portion of the gas pipeline traverses federal land under its jurisdiction.

The proposed nominal 760-megawatt, natural gas-fired, combined cycle power plant project would employ three gas turbines and one heat recovery steam generator (HRSG). The stacks would be approximately 145 to a maximum of 200 feet high and have a diameter of about 18 feet. Groundwater would be used in operations and for cooling. Both storm water and process wastewater would be confined to the site in retention ponds. The power plant would be fueled by natural gas from the existing Kern River (Williams) natural gas pipeline that is located on the Reservation, approximately 3,000 feet from the proposed plant location. The proposed project would include construction of a gas supply lateral pipeline on Reservation land and a power grid interconnection at the Harry Allen substation, located approximately 12 miles southwest of the proposed plant. Two parallel 230kv lines would traverse both Reservation and federal land, mostly within an existing utility corridor. The project would also include an access road to connect the site to Interstate Highway 15.

The DEIS discusses potential impacts of power plant development and operation on environmental resources in the study area. The DEIS describes the alternatives that were considered, but eliminated from further consideration, and also documents the analysis of three alternatives, the proposed action, a southern site alternative, and no action. Issues to be covered in the DEIS include geology and soils, surface and groundwater resources, biological resources, air quality, visual resources, noise, public services/utilities, hazardous materials, paleontological and cultural resources, socio-economic conditions, land use, environmental justice, Indian Trust Assets, and potential cumulative impacts.

Public Comment Solicitation

As an alternative to submitting written comments regarding the content of the EIS/EIR to the locations identified in the ADDRESSES section, interested persons may instead comment via the Internet to http://phxao.az.bia.gov/branches/environment/eis or to DeborahHamlin@bia.gov. Please submit Internet comments as an ASCII file, avoiding the use of special characters and any form of encryption. If you do not receive confirmation from the system that your Internet message was received, contact Amy L. Heuslein at 602-379-6750, or Deborah Hamlin at 435-674-9720, respectively.

Comments, including names and home addresses of respondents, will be available for public review at the mailing addresses shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508), implementing the procedural requirements of the National Environmental Policy Act of 1969, as amended (42 U.S.C. 4321 et seq.), and the Department of the Interior Manual (516 DM 1-6), and is in the exercise of authority delegated to the Assistant Secretary—Indian Affairs by 209 Departmental Manual 8.1.

Dated: March 22, 2001.
James H. McDivitt,
Deputy Assistant Secretary—Indian Affairs (Management).

[FR Doc. 01-7896 Filed 3-29-01; 8:45 am]

BILLING CODE 4310-02-P